ENVIRONMENTAL PROTECTION AGENCY

[FRL-6879-4]

Notice of Availability of Persistent Toxic Substance Reports Published in Response to the United States' Commitments in “The Great Lakes Binational Toxics Strategy”

AGENCY: Environmental Protection Agency.

ACTION: Notice of availability and opportunity to comment.

SUMMARY: “The Great Lakes Binational Toxics Strategy; Canada-United States Strategy for the Virtual Elimination of Persistent Toxic Substances in the Great Lakes” (the Strategy), was signed on April 7, 1997. The Strategy set forth a number of challenges to be met on the path toward virtual elimination of the Level I Strategy substances.

In addition, the Strategy identifies a four-step analytical process that Environment Canada and the United States Environmental Protection Agency, in cooperation with their partners, will use in working toward virtual elimination of the Level I Strategy substances. The four-step process addresses technical and source-related information about the substances (step 1); the analysis of current regulations, initiatives, and programs which manage or control the substances (step 2); the identification of cost-effective options to achieve further reductions (step 3); and the implementation of actions toward the goal of virtual elimination (step 4).

The reports referred to in the title of this notification are in accordance with step 3 of the analytical process, and pertain to Mercury, Polychlorinated Biphenyls, Dioxins/Furans, and Benzo(a)Pyrene and Hexachlorobenzene.

In addition, all step 1 and 2 reports for the substances subject to this notification, including Dioxins/Furans, are available on the Binational Toxics Strategy website.

The intended effect of this notification is to make the step 3 reports available to the public and to allow for discussion of these reports. Comments can be submitted to the Binational Toxics Strategy website, creating a forum that will explore the implementation opportunities for actions leading to the goal of virtual elimination of the aforementioned substances.

DATES: The reports will be made available to the public by September 29, 2000. There will be no closing date for comments, as these reports are intended to initiate an on-going discussion of implementation actions to be taken.

ADDRESSES: The reports, along with electronic comment submission instructions, can be found on the Internet at the following address: http://www.epa.gov/glnpo/bns/. In addition, written comments may be sent to the appropriate contact person for each report (see table below) at the following address: U.S. EPA, 77 West Jackson Boulevard, Chicago, Illinois, 60604.

FOR FURTHER INFORMATION CONTACT: Additional information on the reports may be obtained by contacting the following people by telephone or e-mail:

Report | Contact | Telephone | E-mail
Mercury | Alexis Cain | 312-886-7018 | cain.alexis@ epa.gov
Polychlorinated Biphenyls | Anton Martig | 312-353-2291 | martig.anton@epa.gov
Dioxins/Furans | Nanjunda Gowda | 312-353-9236 | gowda.nanjunda@epa.gov
Benzo(a)Pyrene, Hexachlorobenzene | Steve Rosenthal | 312-886-6052 | rosenthal.steve@epa.gov

Dated: September 15, 2000.
Gary Gulezian,
Acting Regional Administrator, Region 5.

[FR Doc. 00-25171 Filed 9-29-00; 8:45 am]

BILLING CODE 6560-50-P